DEPARTMENT OF ENERGY

Federal Energy Regulatory Commission

[Docket No. AD21-15-000]

Joint Federal-State Task Force on Electric Transmission; Notice Announcing Meeting and Inviting Agenda Topics

On June 17, 2021, the Commission established a Joint Federal-State Task Force on Electric Transmission (Task Force) to formally explore transmission-related topics outlined in the Commission's order.¹ The Commission stated that the Task Force will convene for multiple formal meetings annually, which will be open to the public for listening and observing and on the record.² The next public meeting of the Task Force will be held on July 20, 2022, at the Sheraton San Diego Hotel and Marina in San Diego, California, from approximately 1:00 p.m. to 5:30 p.m. Pacific time. Commissioners may attend and participate in this meeting.

¹ Joint Fed.-State Task Force on Elec. Transmission, 175 FERC ¶ 61,224 (2021) (Establishing Order).

² Id. P 4.

The meeting will be open to the public for listening and observing and on the record. There is no fee for attendance and registration is not required. The public may attend in person or via Webcast.³ This conference will be transcribed. Transcripts will be available for a fee from Ace Reporting, 202-347-3700.

³ A link to the Webcast will be available on the day of the event at https://www.ferc.gov/TFSOET.

Commission conferences are accessible under section 508 of the Rehabilitation Act of 1973. For accessibility accommodations, please send an email to accessibility@ferc.gov or call toll free 1-866-208-3372 (voice) or 202-208-8659 (TTY), or send a fax to 202-208-2106 with the required accommodations.

As explained in the Establishing Order, the Commission will issue agendas for each meeting of the Task Force, after consulting with all Task Force members and considering suggestions from state commissions.⁴ The Establishing Order set forth a broad array of transmission-related topics that the Task Force has the authority to examine with a focus on topics related to planning and paying for transmission, including transmission to facilitate generator interconnection, that provides benefits from a federal and state perspective.⁵ All interested persons, including all state commissioners, are hereby invited to file comments in this docket suggesting agenda items relating to this topic by June 6, 2022. The Task Force members will consider the suggested agenda items in developing the agenda for the July 20, 2022 public meeting. The agenda will be issued in the above-captioned docket no later than July 6, 2022, for the meeting to be held on July 20, 2022.

⁴ Establishing Order, 175 FERC ¶ 61,224 at PP 4, 7.

⁵ Id. P 6.

Comments may be filed electronically via the internet.⁶ Instructions are available on the Commission's website, https://www.ferc.gov/ferc-online/overview. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

⁶ See 18 CFR 385.2001(a)(1)(iii) (2021).

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

Dated: May 23, 2022.
Kimberly D. Bose,
Secretary.

[FR Doc. 2022-11443 Filed 5-26-22; 8:45 am]

BILLING CODE 6717-01-P